DEPARTMENT OF JUSTICE

National Institute of Corrections

Solicitation for a Cooperative Agreement: Meetings of the Institutional Corrections Research Network and Two Subject Matter Experts Meetings on Correctional Research

AGENCY: National Institute of Corrections, U.S. Department of Justice.

ACTION: Solicitation for a cooperative agreement.

SUMMARY: The National Institute of Corrections (NIC) is soliciting proposals from organizations, groups, or individuals to enter into a cooperative agreement for an 18-month period to begin in September 2010. Work under this cooperative agreement will involve organizing four meetings—two annual meetings of the Institutional Corrections Research Network (ICRN) and two other meetings, one focusing on the research needs of jails and the other on a combined research agenda for prisons, jails, and community corrections.

NIC established ICRN in 2007 to promote the development of a stronger research infrastructure in corrections by bringing together agency-based researchers to discuss issues and share insights on the conduct of research in agencies that operate correctional institutions. The network members met annually from 2007-2009 to show examples of the research they were conducting for their agencies, identify new research directions, discuss how they make research relevant to their agency's mission, and share information and concerns about doing research in a correctional environment. ICRN is modeled after similar efforts sponsored by NIC that bring together corrections professionals from different sectors of corrections and by the Community Corrections Research Network, sponsored by the National Institute of Justice, which is made up of researchers working in community corrections agencies. ICRN represents NIC's ongoing commitment to assist correctional agencies as they work to become more evidence-based in their policies and practices, make greater use of outcome measures and performance standards, and incorporate data-driven approaches in their strategic planning and organizational development.

While the ICRN meetings have been very helpful to its members, two issues have emerged from their discussions and the meetings of other similar groups. One is the network's relative absence of researchers working in jails. Under this cooperative agreement, NIC will address this issue by (1) making a concerted effort to recruit jail researchers to participate in ICRN meetings and (2) hold a separate meeting focusing on the research needs of jails. A second issue concerns the lack of cross-discipline discussions among researchers working in state departments of corrections, in jails or jail systems, and in different parts of community corrections, such as pretrial, probation, and parole. The final meeting to be organized under this cooperative agreement will bring together researchers who focus on different aspects of corrections to have them develop a combined research agenda to address the problems that are common to them all.

DATES: Applications must be received by 4 p.m. (EDT) on Friday, July 23, 2010. Selection of the successful applicant and notification of review results to all applicants: September 30, 2010.

ADDRESSES: Mailed applications must be sent to Director, National Institute of Corrections, 320 First Street, NW., Room 5002, Washington, DC 20534. Applicants are encouraged to use Federal Express, UPS, or similar service to ensure delivery by the due date.

Hand delivered applications should be brought to 500 First Street, NW., Washington, DC 20534. At the front desk, call (202) 307-3106, extension 0 for pickup.

Faxed or e-mailed applications will not be accepted. Electronic applications can be submitted via http://www.grants.gov.

FOR FURTHER INFORMATION: A copy of this announcement can be downloaded from the NIC Web site at http://www.nicic.gov/cooperativeagreements.

All technical or programmatic questions concerning this announcement should be directed to Pamela Davison. She can be reached by calling 1-800-995-6423 ext 0484 or by e-mail at pdavison@bop.gov.

SUPPLEMENTARY INFORMATION: The recipient of the award under this cooperative agreement will organize and coordinate all logistical details for all four meetings—the two annual meetings of the Institutional Corrections Research Network (ICRN), plus the two other meetings on the research needs of jails and the combined research agenda for corrections. All expenses for these meetings will be provided out of the funding awarded under this agreement. The two ICRN meetings are each expected to last up to two days for up to 24 participants. The two additional meetings are expected to last one and a half days for up to 10 participants. NIC will identify the participants for each meeting, and it will also identify the location of the meetings based on the geographic distribution of the participants. The meetings will take place in the contiguous 48 states.

The recipient of this award will assist NIC in locating an appropriate venue and coordinating local arrangements at the site, including meeting rooms, food, and beverage services. The recipient will also assist participants in arranging travel and lodging and in reimbursing costs in conformity with Federal guidelines.

With input from NIC, the recipient will prepare each meeting agenda, participant lists, white papers, handouts, and supplementary materials; duplicate them in sufficient quantities; and deliver them to the venue. The recipient will also provide a note taker for each meeting.

Deliverables: By the end of the project, the recipient of this award will deliver the following products: (1) Each of the four meetings, (2) detailed notes of the proceedings of each meeting, including transcriptions of any other written material produced during the meeting, such as the contents of flip charts, (3) a summary report providing an overview of the meetings, their major themes, and any recommendations for the field.

Required Expertise: Successful applicants should have the organizational capacity to carry out all the tasks listed above, including demonstrated experience in organizing meetings of the size and type described. Preference will be given to applicants with a record of working with similar groups in criminal justice.

Application Requirements: Applications should be concisely written, typed double spaced and reference the “NIC Opportunity Number” and Title provided in this announcement. Please limit the program narrative text to 20 double spaced, numbered pages. The application package must include a cover letter that identifies the audit agency responsible for the applicant's financial accounts as well as the audit period or fiscal year that the applicant operates under (e.g., July 1 through June 30), a program narrative responding to the requirements in this announcement, a description of the qualifications of the applicant(s), an outline explaining projected costs, and the following forms: OMB Standard Form 424, Application for Federal Assistance, OMB Standard Form 424A, Budget Information—Non Construction Programs, OMB Standard Form 424B, Assurances—Non Construction Programs (these forms are available at http://www.grants.gov) and DOJ/NIC Certification Regarding Lobbying; Debarment, Suspension and Other Responsibility Matters; and Drug-Free Workplace Requirements (available at http://www.nicic.org/Downloads/PDF/certif-frm.pdf).

Applications may be submitted in hard copy, or electronically via http://www.grants.gov. If submitted in hard copy, there must be one, unbound original plus three copies of the full proposal (program and budget narratives, application forms, and assurances). The original should have the applicant's signature in blue ink.

Authority: Public Law 93-415.

Funds Available: Up to $150,000 is available for this project, subject to available funding, but preference will be given to applicants who provide the most cost efficient solutions in accomplishing the scope of work. Determination will be made based on best value to the Government, not necessarily the lowest bid. Funds may only be used for the activities that are directly related to the project.

Eligibility of Applicants: An eligible applicant is any public or private agency, educational institution, organization, individual or team with expertise in the described areas.

This project will be a collaborative venture with the NIC Research and Evaluation Division.

Review Considerations: Applications received under this announcement will be subject to the NIC Review Process. The criteria for the evaluation of each application will be as follows:

Organizational (75%)

Does the applicant have the necessary capacity and staff with the skills, knowledge, and expertise to demonstrate a high level of competency to carry out the tasks? Are the proposed project management and staffing plans realistic and sufficient to complete the project? Has the organization had past experience in organizing similar events in criminal justice?

Budget (25%)

Is the proposed budget realistic, sufficient in cost detail/narrative, and representative of good value relative to the anticipated results? Is there evidence that the applicant has proposed the most cost-effective way of performing the work? Are there any innovative strategies proposed to contain costs?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and work sheet can also be reviewed at the Web site.

Number of Awards: One

NIC Opportunity Number: 10PEI37. This number should appear as a reference line in the cover letter, where the opportunity number is requested on the Standard Form 424, and outside of the envelope in which the application is sent.

Catalog of Federal Domestic Assistance Number: 16.602.

Executive Order 12372: This program is not subject to the provisions of Executive Order 12372.

Morris L. Thigpen,
Director, National Institute of Corrections.

[FR Doc. 2010-15288 Filed 6-25-10; 8:45 am]

BILLING CODE 4410-36-P